DEPARTMENT OF COMMERCE

International Trade Administration

(A-588-846)

Certain Hot-Rolled Flat-Rolled Carbon-Quality Steel Products from Japan: Rescission of Antidumping Duty Administrative Review

AGENCY: Import Administration, International Trade Administration, Department of Commerce.

EFFECTIVE DATE: September 1, 2009.

FOR FURTHER INFORMATION CONTACT: Martha Douthit, AD/CD Operations, Office 6, Import Administration, International Trade Administration, U.S. Department of Commerce, 14th Street and Constitution Avenue, NW, Washington DC 20230; telephone: (202) 482-5050.

SUPPLEMENTARY INFORMATION:

Background

On June 1, 2009, the Department of Commerce (“the Department”) published in the Federal Register a notice of “Opportunity to Request an Administrative Review” of the antidumping order on certain hot-rolled flat-rolled carbon-quality steel products from Japan for the period June 1, 2008 through May 31, 2009. See Antidumping or Countervailing Duty Order, Finding, or Suspended Investigation; Opportunity to Request Administrative Review, 74 FR 26202 (June 1, 2009).

On June 30, 2009, in accordance with 19 CFR 351.213(b), the Department received a timely request from Nippon Steel Corporation (NSC) to conduct an administrative review of NSC. NSC was the only party to request this administrative review.

On July 29, 2009, the Department published a notice of initiation of the antidumping duty administrative review of certain hot-rolled flat-rolled carbon-quality steel products from Japan. See Initiation of Antidumping and Countervailing Duty Administrative Reviews and Deferral of Administrative Reviews, 74 FR 37690 (July 29, 2009) (Initiation Notice).

On August 14, 2009, NSC timely withdrew its request for review. Thus we are rescinding this administrative review.

Rescission of Administrative Review

Pursuant to 19 CFR 351.213(d)(1), the Secretary will rescind an administrative review, in whole or in part, if the parties that requested a review withdraw the request within 90 days of the date of publication of the notice of initiation of the requested review. On August 14, 2009, NSC withdrew its request for an administrative review. NSC withdrew its request before the 90-day deadline, and no other party requested an administrative review of the antidumping duty order on certain hot-rolled flat-rolled carbon-quality steel products from Japan for the period discussed. Therefore, in response to NSC's withdrawal of its request for review, and pursuant to 19 CFR 351.213(d)(1), the Department rescinds the administrative review of the antidumping duty order on certain hot-rolled flat-rolled carbon-quality steel products from Japan for the period June 1, 2008 through May 31, 2009.

Assessment

The Department will instruct U.S. Customs and Border Protection (“CBP”) to assess antidumping duties on all appropriate entries. Since NSC's review is being rescinded, the antidumping duties shall be assessed at rates equal to the cash deposit of estimated antidumping duties required at the time of entry, or withdrawal from warehouse, for consumption, in accordance with 19 CFR 351.212(c)(1)(i). The Department intends to issue appropriate assessment instructions to CPB 15 days after publication of this rescission notice in the Federal Register.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as a final reminder to parties subject to administrative protection orders (APO) of their responsibility concerning the disposition of proprietary information disclosed under APO in accordance with 19 CFR 351.305(a)(3). Timely written notification of the return/destruction of APO materials or conversion to judicial protective order is hereby requested. Failure to comply with the regulations and terms of an APO is a sanctionable violation.

This notice is issued and published in accordance with 19 CFR 351.213(d)(4).

Dated: August 26, 2009.
John M. Andersen,
Acting Deputy Assistant Secretary for Antidumping and Countervailing Duty Operations.

[FR Doc. E9-21085 Filed 8-31-09; 8:45 am]

BILLING CODE 3510-DS-S